ENVIRONMENTAL PROTECTION AGENCY

40 CFR Part 52

[Docket No. EPA-R02-OAR-2010-0530; FRL-9183-9]

Adequacy Status of Motor Vehicle Emissions Budgets in Submitted Reasonable Further Progress and Attainment Demonstrations for New York Portions of New York-Northern New Jersey-Long Island and Poughkeepsie 8-hour Ozone Nonattainment areas for Transportation Conformity Purposes; NY

AGENCY: Environmental Protection Agency (EPA).

ACTION: Notice of Adequacy.

SUMMARY: In this notice, EPA is notifying the public that we have found that the motor vehicle emissions budgets for volatile organic compound (VOC) and nitrogen oxides (NOX) in the submitted reasonable further progress state implementation plan for the New York portions of the New York-Northern New Jersey-Long Island, NY-NJ-CT 8-hour ozone nonattainment area, as well as the submitted reasonable further progress and attainment demonstration state implementation plans for the Poughkeepsie, New York 8-hour ozone nonattainment area, to be adequate for transportation conformity purposes. The transportation conformity rule requires that the EPA conduct a public process and make an affirmative decision on the adequacy of these budgets before they can be used by metropolitan planning organizations in conformity determinations. As a result of our finding, the New York Metropolitan Transportation Council (excluding Putnam County) must use the submitted 2008 8-hour ozone budgets for future transportation conformity determinations, and the Orange County Transportation Council, the Poughkeepsie-Dutchess Transportation Council and the New York Metropolitan Transportation Council (Putnam County only) must use the submitted 2008 and 2009 8-hour ozone budgets for future transportation conformity determinations.

DATES: This finding is effective August 17, 2010.

FOR FURTHER INFORMATION CONTACT: Melanie Zeman, Air Programs Branch, Environmental Protection Agency—Region 2, 290 Broadway, 25th Floor, New York, New York 10007-1866, (212) 637-4022, zeman.melanie@epa.gov.

The finding and the response to comments will be available at EPA's conformity Web site: http://www.epa.gov/otaq/stateresources/transconf/adequacy.htm.

SUPPLEMENTARY INFORMATION:

Background

On February 8, 2008, New York State submitted reasonable further progress and attainment demonstration state implementation plans to EPA for its portion of the New York-Northern New Jersey-Long Island, NY-NJ-CT and Poughkeepsie, New York, 8-hour ozone nonattainment areas. The purpose of the New York State submittal was to demonstrate both of the areas progress toward attaining the 8-hour ozone National Ambient Air Quality Standard. The submittal included motor vehicle emissions budgets (“budgets”) for 2008 and 2009 for the Poughkeepsie 8-hour ozone nonattainment area and 2008 budgets for the New York portion of the New York-Northern New Jersey-Long Island, NY-NJ-CT nonattainment area for use by the State's metropolitan planning organizations in making transportation conformity determinations. On June 12, 2008, and June 2, 2008, respectively, the availability of the New York portion of the New York-Northern New Jersey-Long Island, NY-NJ-CT 8-hour ozone nonattainment area and the Poughkeepsie, New York 8-hour ozone nonattainment area transportation conformity budgets were posted on EPA's Web site for the purpose of soliciting public comments. The adequacy public comment period closed for the New York portion of the New York-Northern New Jersey-Long Island, NY-NJ-CT area budgets on July 14, 2008, and EPA received no public comments. The public comment period closed for the Poughkeepsie, New York area budgets on July 2, 2008. EPA's response to comments received during this period is posted on the EPA adequacy Web site listed below. Today's notice is simply an announcement of a finding that EPA has already made. EPA Region 2 sent a letter to New York State Department of Environmental Conservation on June 21, 2010. The findings letter states that the 2008 motor vehicle emissions budgets in New York's SIP submissions for both the New York portion of the New York-Northern New Jersey-Long Island, NY-NJ-CT and Poughkeepsie, New York 8-hour ozone nonattainment areas are adequate because they are consistent with the required rate of progress plan. With regard to the 2009 motor vehicle emissions budgets, the findings letter states that for the Poughkeepsie, New York 8-hour ozone nonattainment area, these budgets are adequate for transportation conformity purposes because they are consistent with the plan's demonstration of attainment. EPA's finding will also be announced on EPA's conformity Web site: http://www.epa.gov/otaq/stateresources/transconf/adequacy.htm.

For informational purposes, EPA notes that on April 4, 2008, New York submitted to EPA a request for a voluntary reclassification of the New York-Northern New Jersey-Long Island, NY-NJ-CT 8-hour ozone nonattainment area from “moderate” to “serious” pursuant to section 181(b)(3) of the Act. Related to this request, New York provided EPA with 2011 and 2012 motor vehicle emissions budgets. EPA is continuing to review New York's request for a voluntary reclassification of the New York-Northern New Jersey-Long Island, NY-NJ-CT 8-hour ozone nonattainment area and therefore is not taking action on the 2011 or 2012 budgets at this time. EPA would take action on these budgets at the same time it addresses New York's request in a separate proposed action.

Transportation conformity is required by section 176(c) of the Clean Air Act. EPA's conformity rule requires that transportation plans, programs, and projects conform to SIPs and establishes the criteria and procedures for determining whether they conform. Conformity to a SIP means that transportation activities will not produce new air quality violations, worsen existing violations, or delay timely attainment of the National Ambient Air Quality Standards.

The criteria by which we determine whether a SIP's motor vehicle emission budgets are adequate for conformity purposes are specified in 40 CFR 93.118(e)(4). Please note that an adequacy review is separate from EPA's completeness review, and it also should not be used to prejudge EPA's ultimate approval of the SIP. Even if we find a budget adequate, the SIP could later be disapproved.

EPA has described its process for determining the adequacy of submitted SIP budgets in 40 CFR 93.118(f). EPA has followed this rule in making these adequacy determinations. The motor vehicle emissions budgets being found adequate today are listed in Table 1.

Table 1—8-Hour Ozone Motor Vehicle Emissions Budgets for New York State
[Tons per day]
Nonattainment Area | 2008: NOX | 2008: VOC | 2009: NOX | 2009: VOC
New York Portions of New York-Northern New Jersey-Long Island, NY-NJ-CT (NYMTC excluding Putnam County) | 211.77 | 148.85 | n/a | n/a
Poughkeepsie, NY (PDCTC, OCTC, NYMTC Putnam County only) | 32.32 | 19.22 | 29.77 | 17.63

List of Subjects in 40 CFR Part 52

Environmental protection, Air pollution control, Intergovernmental relations, Nitrogen dioxide, Ozone, Reporting and recordkeeping requirements, Volatile organic compounds.

Authority: 42 U.S.C. 7401-7671 q.

Dated: July 20, 2010.
Judith A. Enck,
Regional Administrator, Region 2.

[FR Doc. 2010-18921 Filed 7-30-10; 8:45 am]

BILLING CODE 6560-50-P